DEPARTMENT OF HOUSING AND URBAN DEVELOPMENT

24 CFR Part 180

Consolidated HUD Hearing Procedures for Civil Rights Matters

CFR Correction

In title 24 of the Code of Federal Regulations, parts 0 to 199, revised as of April 1, 2008, on pages 733 and 734, in § 180.670, remove paragraphs (b)(3)(iii)(A) through (b)(3)(iii)(C).

[FR Doc. E8-30942 Filed 12-24-08; 8:45 am]

BILLING CODE 1505-01-D